NATIONAL ARCHIVES AND RECORDS ADMINISTRATION

[NARA-21-0020; NARA-2022-016]

Records Schedules; Administrative Correction Notice

AGENCY: National Archives and Records Administration (NARA).

ACTION: Notice of administrative correction to records schedules.

SUMMARY: We are making the following administrative corrections to several schedules of the Department of Treasury's Bureau of Fiscal Service. These cover its schedules for Support Records for Public Debt, Retail Securities Services, Summary Debt Accounting, Wholesale Security Services, and Government Agency Investment Services. An administrative correction addresses errors or oversights to temporary items in an approved records schedule. We are correcting errors and oversights in these schedules to make clear they are media-neutral.

DATES: Submit any comments by January 28, 2022.

ADDRESSES: You can find the records schedules subject to this proposed administrative correction on our website's Records Control Schedule page at https://www.archives.gov/records-mgmt/rcs/schedules/index.html?dir=/departments/department-of-the-treasury/rg-0053. You may submit comments by either of the following methods.

• Federal eRulemaking Portal: http://www.regulations.gov.

• Due to COVID-19 building closures, we are currently temporarily not accepting comments by mail. However, if you are unable to comment via regulations.gov, you may contact request.schedule@nara.gov for instructions on submitting your comment. You must cite the control number of the schedule you wish to comment on.

FOR FURTHER INFORMATION CONTACT: Kimberly Keravuori, Regulatory and External Policy Program Manager, by email at regulation_comments@nara.gov, or by phone at 301.837.3151. For information about records schedules, contact Records Management Operations by email at request.schedule@nara.gov or by phone at 301.837.1799.

SUPPLEMENTARY INFORMATION: Administrative corrections are changes to temporary items on approved records schedules to address errors or oversights when the records were originally scheduled. The notice applies only to the changes described; not to other portions of a schedule. Submitting agencies cannot implement administrative corrections until the comment period ends and NARA approves the changes.

This administrative correction should be read in conjunction with the previously approved records schedules N1-053-06-04, Bureau of Fiscal Service, Support Records for Public Debt; N1-053-06-05, Bureau of Fiscal Service, Retail Securities Services; N1-053-06-06, Bureau of Fiscal Service, Summary Debt Accounting; N1-053-06-07, Bureau of Fiscal Service, Wholesale Security Services; and N1-053-06-08, Bureau of Fiscal Service, Government Agency Investment Services. You can find these schedules on the Records Control Schedule page at https://www.archives.gov/records-mgmt/rcs/schedules/index.html?dir=/departments/department-of-the-treasury/rg-0053.

We are making an administrative correction to the schedules to clearly indicate that all temporary items on the schedules are media-neutral items. These schedules were prepared and approved at a time of transition when media-neutral status was not as clearly noted on records schedules as it later came to be. We have reviewed the administrative record and concluded that these schedules were intended to be media-neutral, and that when they were received and evaluated by NARA they were understood to be media-neutral. Therefore, we are modifying the schedules to make this status clear in the body of the schedules.

Making these schedule items media-neutral means the schedule instructions and retention periods can be applied to the described kinds of records regardless of an individual record's medium (for example, hard-copy, analog, or digital). We will line out all references to “hard copy” that were erroneously included in the temporary item descriptions, and add a statement on the schedule that it is a media-neutral schedule. See https://www.archives.gov/records-mgmt/faqs/media-neutral.html for more information on media-neutral schedules.

Laurence Brewer,
Chief Records Officer for the U.S. Government.

[FR Doc. 2021-26953 Filed 12-13-21; 8:45 am]

BILLING CODE 7515-01-P